DEPARTMENT OF TRANSPORTATION

Federal Aviation Administration

[Docket No. FAA-2023-1282]

Agency Information Collection Activities: Requests for Comments; Clearance of New Approval of Information Collection: Certificates of Waivers

AGENCY: Federal Aviation Administration (FAA), DOT.

ACTION: Notice and request for comments.

SUMMARY: In accordance with the Paperwork Reduction Act of 1995, FAA invites public comments about our intention to request the Office of Management and Budget (OMB) approval for a new information collection. The purpose of this notice is to allow 60 days for public comment. The FAA proposes collecting information related to requests for certificate of waivers to operate Unmanned Aircraft Systems (UAS) in deviation from the normal operating rules. The FAA will use the collected information to make determinations whether to authorize or deny the requested operation of UAS. The proposed information collection is necessary to issue such authorizations or denials consistent with the FAA's mandate to ensure safe and efficient use of national airspace.

DATES: Written comments should be submitted by July 30, 2023.

ADDRESSES: Please send written comments:

By Electronic Docket: www.regulations.gov (Enter docket number into search field).

By mail: FAA HQ, Bldg. 10B, 5th Floor, Desk 5E4TS, 600 Independence Ave. SW, Washington, DC 20597.

FOR FURTHER INFORMATION CONTACT: Rahat Ali by email at: Rahat.Ali@faa.gov; phone: 202-267-8780.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Certificates of Waivers under 14 CFR 91.903.

Form Numbers: Not applicable.

Type of Review: Approval of new Information Collection.

Background: Title 14, part 91 of the Code of Federal Regulations prescribes the rules governing the operation of aircraft within the United States. Included in this is the operation of unmanned aircraft systems (UAS), commonly known as drones, by both civil and public aircraft operators. 14 CFR 91.903 allows for operators of aircraft to apply for a certificate of waiver authorizing the operator to deviate from the rules listed in § 91.905 if the proposed operation can be conducted safely.

To process certificate of waiver requests, the FAA requires the name of the person or organization sponsoring the request, mailing address, information related to any pending or to prior waiver requests that were denied or rescinded, the regulation sought to deviate from, time and location of the proposed operation, the make and model of the aircraft, and the pilot's name, address, and certificate number and rating. This information is necessary for the FAA to meet its statutory mandate of maintaining a safe and efficient national airspace. See 49 U.S.C. 40103, 44701, and 44807. The FAA will use the requested information to determine if the proposed UAS operation can be conducted safely.

The FAA proposes to use a web portal accessible from the FAA website to process certificate of waiver requests from the public. To initially access the web portal, the FAA requires respondents to complete an Access Request Form. This form requires the respondent to provide the date, the respondent's name, telephone number, and email address, to identify if the respondent is a civil or public operator, and to provide a general reason why operating a UAS.

Respondents: UAS operators seeking to a certificate of waiver under 14 CFR 91.903. Between 2023-2026, the FAA estimates that it will receive a total of 5,105 certificate of waiver requests with 4,925 coming from public users and 180 coming from civil users. The FAA also estimates that it will receive a total 2,572 requests to initially access the web portal.

Frequency: The requested information will need to be provided each time a respondent requests a certificate of waiver under Part 91 and the first time that a respondent requests to access the web portal.

Estimated Average Burden per Response: The FAA estimates the respondents will take an average of 15 minutes to complete the Access Request Form and 120 minutes to request a certificate of waiver.

Estimated Total Annual Burden: 3,283 hours for those completing certificate of waiver requests. 214 hours for those completing the Access Request Form.

Issued in Washington, DC, on May 31, 2023.
Rahat Ali,
General Engineer.AJV-P22

[FR Doc. 2023-11883 Filed 6-2-23; 8:45 am]

BILLING CODE 4910-13-P